DEPARTMENT OF DEFENSE

Office of the Secretary

[Transmittal No. 24-96]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-96, Policy Justification, and Sensitivity of Technology.

Dated: January 8, 2026.
Stephanie J. Bost,
Alternate OSD Federal Register Liaison Officer, Department of Defense.

BILLING CODE 6001-FR-P

BILLING CODE 6001-FR-C

Transmittal No. 24-96

Notice of Proposed Issuance of Letter of Offer Pursuant to Section 36(b)(1) of the Arms Export Control Act, as amended

(i) Prospective Purchaser: Kingdom of Morocco

(ii) Total Estimated Value:

Major Defense Equipment * | $51 million
Other | $35 million
TOTAL | $86 million

Funding Source: National Funds

(iii) Description and Quantity or Quantities of Articles or Services under Consideration for Purchase:

Major Defense Equipment (MDE):

Five hundred (500) GBU-39B Small Diameter Bombs I (SDB-I)

Two (2) GBU-39 (T-1)/B inert practice bombs with fuze

Non-MDE:

The following non-MDE items will also be included: GBU-39 tactical training rounds; containers, weapons system support, and test and support equipment; spare parts, consumables and accessories, and repair and return support; publications and technical data; personnel training and training equipment; warranties; transportation support; site surveys; (United States (U.S.) Government and contractor engineering, logistics, and technical support services; and other related elements of logistics and program support.

(iv) Military Department: Air Force (MO-D-QAQ)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: December 20, 2024

* as defined in Section 47(6) of the Arms Export Control Act.

POLICY JUSTIFICATION

Kingdom of Morocco—GBU-39B Small Diameter Bombs (SDB-I)

The Kingdom of Morocco has requested to buy five hundred (500) GBU-39B Small Diameter Bombs I (SDB-I); and two (2) GBU-39 (T-1)/B inert practice bombs with fuze. The following non-MDE items will also be included: GBU-39 tactical training rounds; containers, weapons system support, and support and test equipment; spare parts, consumables and accessories, and repair and return support; publications and technical data; personnel training and training equipment; warranties; transportation support; site surveys; U.S. Government and contractor engineering, logistics, and technical support services; and other related elements of logistics and program support. The estimated total cost is $86 million.

This proposed sale will support the foreign policy and national security of the U.S. by helping to improve the security of a major non-NATO ally that continues to be an important force for political stability and economic progress in North Africa.

The proposed sale will improve Morocco's capability to meet current and future threats. This capability will also strengthen combined operations and increase interoperability between the U.S. Air Force and the Royal Moroccan Air Force. Morocco will have no difficulty absorbing this equipment into its armed forces.

The proposed sale of this equipment and support will not alter the basic military balance in the region.

The principal contractor will be Boeing Corporation, located in St. Louis, MO. There are no known offset agreements proposed in connection with this potential sale.

Implementation of this proposed sale will not require the assignment of any additional U.S. Government or contractor representatives to the Kingdom of Morocco.

There will be no adverse impact on U.S. defense readiness as a result of this proposed sale.

Transmittal No. 24-96

Notice of Proposed Issuance of Letter of Offer Pursuant to Section 36(b)(1) of the Arms Export Control Act

Annex

Item No. vii

(vii) Sensitivity of Technology:

1. The GBU-39/B Small Diameter Bomb I (SDB-I) is a 250-pound GPS-aided inertial navigation system with Precise Positioning Services provided by Selective Availability Anti-Spoofing Module or M-Code, small autonomous, day or night, adverse weather, conventional, air-to-ground precision glide weapon able to strike fixed and stationary re-locatable non-hardened targets from standoff ranges. It is intended to provide aircraft with an ability to carry a high number of bombs. Aircrafts can carry four SDBs in place of one 2,000-pound bomb. This potential sale includes GBU-39 (T-1)/B inert with fuze practice bombs, and GBU-39B Tactical Training Rounds (inert fuze).

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the Kingdom of Morocco can provide substantially the same degree of protection for the sensitive technology being released as the U.S. Government. This sale is necessary in furtherance of the U.S. foreign policy and national security objectives outlined in the Policy Justification.

5. All defense articles and services listed in this transmittal have been authorized for release and export to the Kingdom of Morocco.

[FR Doc. 2026-00364 Filed 1-9-26; 8:45 am]

BILLING CODE 6001-FR-P